DEPARTMENT OF HEALTH AND HUMAN SERVICES

National Committee on Vital and Health Statistics: Meeting

Pursuant to the Federal Advisory Committee Act, the Department of Health and Human Services (HHS) announces the Following Advisory Committee Meeting.

Name: National Committee on Vital and Health Statistics (NCVHS); Standards Subcommittee.

Time and Date: April 27, 2011, 8 a.m.-5 p.m.

Place: Marriott Washington Hotel, 1221 22nd Street, NW (Between M & N Sts), Washington, DC 20037, Phone: 202-872-1500, Fax: 202-872-1424.

Status: Open.

Purpose: The purpose of this upcoming meeting of the Subcommittee on Standards is to receive (1) industry input on the acknowledgements transaction as a standard to be adopted under the Health Insurance Portability and Accountability Act of 1996 (HIPAA) and (2) commentary and proposals pertaining to the maintenance and modification of standards and operating rules adopted under the Patient Protection and Affordable Care Act (ACA) of 2010. The Subcommittee will hear testimony with proposals and recommendations from individual, organizational and association subject matter experts.

The NCVHS has been named in the Patient Protection and Affordable Care Act (ACA) of 2010 to review and make recommendations on several operating rules and standards related to HIPAA transactions. This meeting will support these activities in the development of a set of recommendations for the Secretary, as required by § 1104 of the ACA. Text of the ACA can be found at http://www.whitehouse.gov/healthreform.

Contact Person for More Information: Substantive program information as well as summaries of meetings and a roster of committee members may be obtained from Lorraine Doo, lead staff for the Standards Subcommittee, NCVHS, Centers for Medicare and Medicaid Services, Office of E-Health Standards and Services, 7500 Security Boulevard, Baltimore, Maryland, 21244, telephone (410) 786-6597 or Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available. Persons interested in providing oral or written testimony during the April 27th hearing should contact Lorraine Doo at Lorraine.Doo@cms.hhs.gov.

Should you require reasonable accommodation, please contact the CDC Office of Equal Employment Opportunity on (301) 458-4EEO (4336) as soon as possible.

Dated: April 6, 2011.
James Scanlon,
Deputy Assistant Secretary for Planning and Evaluation Science and Data Policy, Office of the Assistant Secretary for Planning and Evaluation.

[FR Doc. 2011-9084 Filed 4-13-11; 8:45 am]

BILLING CODE 4151-05-P